FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the permerger notification rules. The grants were made by the Federal Trade Commission and the Assistant Attorney General for the Antitrust Division of the Department of Justice. Neither agency intends to take any action with respect to these proposed acquisitions during the applicable waiting period.

Trans# | Acquiring | Acquired | Entities
Transactions Granted Early Termination—08/06/2001
20012163 | Madison Dearborn Capital Partners IV, L.P | Thomas O. Hicks | Southwest Sports Television, L.P.
20012197 | Atlas Air Worldwide Holdings, Inc | General Electric Company | Polar Air Cargo, Inc.
20012199 | Kinder Morgan Energy Partners, L.P | Occidental Petroleum Corporation | Occidental Texas Pipeline, L.P.
Transactions Granted Early Termination—08/08/2001
20010071 | Premdor Inc | International Paper Company | International Paper Investment Corporation; International Paper Masonite Holdings Co., Ltd; International Paper Trademark Company; Masonite Corporation; Pintu Acquisition Company, Inc.
20012161 | The Limited, Inc | Charming Shoppes, Inc | Charming Shoppes, Inc.
20012162 | Charming Shoppes, Inc | The Limited, Inc | LBH, Inc.
20012175 | AutoNation, Inc | Robert S. Cuillo | Luxury Imports of Palm Beach, Inc.; Palm Beach Lincoln, Mercury, Inc.
20012180 | S.A. Louis Dreyfus et Cie | BNP Paribas | Via North America, Inc.
20012194 | Affiliated Computer Services, Inc | Lockheed Martin Corporation | Lockheed Martin IMS Corporation.
20012206 | First Horizon Pharmaceutical Corporation | Sanofi-Synthelabo | Sanofi-Synthelabo, Inc.
20012207 | Osburne Jay Call | Robert J. Welsh | Welsh, Inc.
Transactions Granted Early Termination—08/10/2001
20012148 | Blue Cross and Blue Shield of North Carolina | Novant Health, Inc | PARTNERS National Health Plans of North Carolina, Inc.
20012201 | Citigroup, Inc | DaimlerChrysler AG | debris Financial Services, Inc.
20012205 | Toyota Motor Corporation | Hino Motors, Ltd | Hino Motors, Ltd.
20012218 | United Business Media plc | Roper Starch Worldwide, Inc | Roper Starch Worldwide, Inc.
20012219 | Cisco Systems, Inc | Allegro Systems, Inc | Allegro Systems, Inc.
20012224 | EQT Northern Europe AG | AB Bonnierforetagen | Duni AB.
20012227 | The Profit Recovery Group International, Inc | Howard Schultz | Howard Schultz & Association International, Inc.
20012228 | Howard Schultz | The Profit Recovery Group International, Inc | The Profit Recovery Group International, Inc.
20012229 | Calpine Corporation | Edison International | Gordonsville Energy, L.P.
20012233 | Barry Diller | Microsoft Corporation | Expedia, Inc.
20012237 | New York Life Insurance Company | Thomas A. Morton Family Trust | McMorgan & Co.
20012238 | Forstmann Little & Co. Equity Partnership—VII, L.P | McLeodUSA Incorporated | McLeodUSA Incorporated.
20012244 | Gerald W. Schwartz | Lucent Technologies Inc | Lucent Technologies Inc.
20012249 | Compass Group PLC | Voting Trust dated December 10, 1998 | Crothall Services Group.
Transactions Granted Early Termination—08/13/2001
20011943 | First Health Group Corp | HCA-The Healthcare Company | CCN Managed Care, Inc.
20012198 | General Motors Corporation | The 1960 Trust | Cooper River Funding, Inc.
20012215 | Nokia Corporation | Amber Networks, Inc | Amber Networks, Inc.
Transactions Granted Early Termination—08/14/2001
20012164 | Sonoco Products Company | Robert J. Cloud | U.S. Paper Mills Corporation.
20012165 | Sonoco Products Company | Thomas L. Olson | U.S. Paper Mills Corporation.
20012213 | Conexant Systems, Inc | SiRF Holdings, Inc | SiRF Holdings, Inc.
20012222 | OCM/GFI Power Opportunities Fund, L.P | Enron Corp | UtiliQuest, LLC.
20012223 | Cox Enterprises, Inc | Cox Enterprises, Inc | Manheim Remarketing Limited Partnership.
20012240 | The Governor and Company of the Bank of Scotland | Halifax Group plc | Halifax Group plc.
20012241 | Halifax Group plc | The Governor and Company of the Bank of Scotland | The Governor and Company of the Bank of Scotland.
20012243 | Reuters plc | ProTrader Group Limited Partnership | ProTrader Group Limited Partnership.
20012248 | Brinker International, Inc | The Sydran Group, LLC | Sydran Foods Services III, L.P.
Transactions Granted Early Termination—08/16/2001
20012236 | RSA Security Inc | Securant Technologies, Inc | Securant Technologies, Inc.
Transactions Granted Early Termination—08/17/2001
20011962 | LSI Logic Corporation | Subramonian Shankar | American Megatrends, Inc.
20012251 | Mitsubishi Chemical Corporation | Welfide Corporation | Welfide Corporation.
20012272 | Pegasus Partners II, L.P | Golden Books Family Entertainment, Inc., debtor-in-possession | Golden Books Family Entertainment, Inc., debtor-in-possession.

FOR FURTHER INFORMATION CONTACT: Sandra M. Peay or Parcellena P. Fielding, Contact Representatives, Federal Trade Commission, Premerger Notification Office, Bureau of Competition, room 303, Washington, DC 20580, (202) 326-3100.

By Direction of the Commission.
Donald S. Clark,
Secretary.

[FR Doc. 01-22856 Filed 9-11-01; 8:45 am]

BILLING CODE 6750-01-M